DEPARTMENT OF DEFENSE

Department of the Navy

[Docket ID USN-2014-0007]

Privacy Act of 1974; System of Records

AGENCY: Department of the Navy, DoD.

ACTION: Notice to alter a System of Records.

SUMMARY: The Department of the Navy proposes to alter the system of records, N05820-1, entitled “Foreign Criminal Jurisdiction Files” in its inventory of record systems subject to the Privacy Act of 1974, as amended. This system will be used by International and Operational Law Division personnel in the performance of their official duties when monitoring and reporting foreign criminal litigation, foreign confinement, and legal hold status of the individuals involved.

DATES: Comments will be accepted on or before April 17, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/. http://dpclo.defense.gov/privacy/SORNs/component/navy/index.html.

The proposed system report, as required by 5 U.S.C. 552a(r) of the Privacy Act of 1974, as amended, was submitted on February 10, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 12, 2014.
Aaron Siegel,
Alternate OSD Federal Register Liaison Officer, Department of Defense.

N05820-1

System name:

Foreign Criminal Jurisdiction Files (April 12, 1999, 64 FR 17648).

Changes:

System location:

Delete entry and replace with “The Office of the Judge Advocate General (International and Operational Law Division), 1322 Patterson Avenue SE., Suite 3000, Washington, DC 20374-5066.”

* * * * *

Categories of records in the system:

Delete entry and replace with “Computerized summaries and paper copies of legal documents received and filed relative to each case, and other miscellaneous data about the particular case to include accused's name, duty station, rate, grade, unit identification code (UIC), duty station, date of incident and country of incident.”

* * * * *

Purpose(s):

Delete entry and replace with “Used by International and Operational Law Division personnel in the performance of their official duties when monitoring and reporting foreign criminal litigation, foreign confinement, and legal hold status of the individuals involved.”

* * * * *

Storage:

Delete entry and replace with “Paper file folders and/or electronic storage media.”

Retrievability:

Delete entry and replace with “Files may be retrieved by name, date of incident and country of incident.”

Safeguards:

Delete entry and replace with “Only personnel in the International and Operational Law Division with a need-to-know are authorized access. Offices are kept locked when not occupied. Computers are password protected.”

* * * * *

System manager(s) and address:

Delete entry and replace with “Policy Official: Judge Advocate General, 1322 Patterson Avenue SE., Suite 3000, Washington, DC 20374-5066.

Record Holder:

The Deputy Assistant Judge Advocate General (International and Operational Law), 1322 Patterson Avenue SE., Suite 3000, Washington, DC 20374-5066.”

Notification procedure:

Delete entry and replace with “Individuals seeking to determine whether information about themselves is contained in this system should address written inquiries to the Deputy Assistant Judge Advocate General (International and Operational Law Division), 1322 Patterson Avenue SE., Suite 3000, Washington, DC 20374-5066.

The request should be signed and include full name, a complete mailing address, grade, UIC, and duty station, as applicable.

The system manager may require an original signature or a notarized signature as a means of proving the identity of the individual.”

Record access procedures:

Delete entry and replace with “Individuals seeking access to information about themselves contained in this system should address written inquiries to the Deputy Assistant Judge Advocate General (International and Operational Law), 1322 Patterson Avenue SE., Suite 3000, Washington, DC 20374-5066.

The request should be signed and include full name, a complete mailing address, grade, UIC, and duty station, as applicable.

The system manager may require an original signature or a notarized signature as a means of proving the identity of the individual requesting access to the records.”

* * * * *

[FR Doc. 2014-05850 Filed 3-17-14; 8:45 am]

BILLING CODE 5001-06-P